DEPARTMENT OF COMMERCE

National Institute of Standards and Technology

Announcement of a Meeting To Discuss an Opportunity To Join a Cooperative Research and Development Consortium on Fire Retardant Foam Flammability

AGENCY: National Institute of Standards and Technology, Commerce.

ACTION: Notice of public meeting.

SUMMARY: The National Institute of Standards and Technology (NIST) invites interested parties to attend a meeting on April 20, 2005 to discuss the possibility of setting up a cooperative research consortium. The objective is to develop high throughput foam preparation methods and flammability measurement methods to aid polyurethane manufacturers and additive suppliers in developing fire safe foams that are environmentally safe and cost effective. The primary outcome of this work being the creation of a structure-flammability property database for polyurethane foams.

DATES: The meeting will take place on April 20, 2005 at 9 a.m. Interested parties should contact NIST to confirm their interest at the address, telephone number or FAX number shown below.

ADDRESSES: The meeting will take place at the National Institute of Standards and Technology (NIST), 100 Bureau Drive, Polymer Building (224), Room B-245 Fire Science Division, Gaithersburg, MD 20899-8665.

FOR FURTHER INFORMATION CONTACT: Dr. Jeffrey W. Gilman, Polymers Building (224), Room A263, National Institute of Standards and Technology (NIST), Gaithersburg, MD 20899-8665. Telephone: 301-975-6573; FAX: 301-975-4052; e-mail: jeffrey.gilman@nist.gov.

SUPPLEMENTARY INFORMATION: Any program undertaken will be within the scope and confines of The Federal Technology Transfer Act of 1986 (Pub. L. 99-502, 15 U.S.C. 3710a), which provides Federal laboratories including NIST, with the authority to enter into cooperative research agreements with qualified parties. Under this law, NIST may contribute personnel, equipment, and facilities but no funds to the cooperative research program. This is not a grant program.

Dated: March 10, 2005.
Hratch G. Semerjian,
Acting Director.

[FR Doc. 05-5396 Filed 3-17-05; 8:45 am]

BILLING CODE 3510-13-P